DEPARTMENT OF AGRICULTURE

Forest Service

Del Norte County Resource Advisory Committee

AGENCY: Forest Service, USDA.

ACTION: Notice of meeting.

SUMMARY: The Del Norte County Resource Advisory Committee (RAC) will meet on June 26, 2007 in Crescent City, California. The purpose of the meeting is to discuss the project submission and selection process for Title II proposals submitted under Public Law 106-393, H.R. 2389, the Secure Rural Schools and Community Self-Determination Act of 2000, also called the “Payments to States” Act.

DATES: The meeting will be held on July 2, 2006, from 6 to 8:30 p.m.

ADDRESSES: The meeting will be held at the Del Norte County Unified School District Board Room, 301 West Washington, Crescent City, California.

FOR FURTHER INFORMATION CONTACT: Julie Ranieri, Committee Coordinator, USDA, Six Rivers National Forest, 1330 Bayshore Way, Eureka, CA 95501. Phone: (707) 441-3673. e-mail: jranier@fs.fed.us.

SUPPLEMENTARY INFORMATION: Individuals, community-based organization, tribes and government agencies will present the Title II project proposals submitted to the RAC. The meeting is open to the public. Public input opportunity will be provided and individuals will have the opportunity to address the committee at that time.

Dated: June 18, 2007.
William D. Metz,
Deputy Forest Supervisor.

[FR Doc. 07-3062 Filed 6-21-07; 8:45 am]

BILLING CODE 3410-11-M